DEPARTMENT OF ENERGY

Federal Energy Regulatory Commission

Combined Notice of Filings #1

Take notice that the Commission received the following electric rate filings:

Docket Numbers: ER12-1956-000.

Applicants: Duke Energy Miami Fort, LLC.

Description: MBR Filing to be effective 10/1/2012.

Filed Date: 6/5/12.

Accession Number: 20120605-5113.

Comments Due: 5 p.m. ET 6/26/12.

Docket Numbers: ER12-1957-000.

Applicants: Duke Energy Miami Fort, LLC.

Description: Reactive Filing to be effective 12/31/9998.

Filed Date: 6/5/12.

Accession Number: 20120605-5114.

Comments Due: 5 p.m. ET 6/26/12.

Docket Numbers: ER12-1958-000.

Applicants: Duke Energy Piketon, LLC.

Description: MBR Filing to be effective 10/1/2012.

Filed Date: 6/5/12.

Accession Number: 20120605-5115.

Comments Due: 5 p.m. ET 6/26/12.

Docket Numbers: ER12-1959-000.

Applicants: Duke Energy Stuart, LLC.

Description: MBR Filing to be effective 10/1/2012.

Filed Date: 6/5/12.

Accession Number: 20120605-5116.

Comments Due: 5 p.m. ET 6/26/12.

Docket Numbers: ER12-1960-000.

Applicants: Duke Energy Stuart, LLC.

Description: Reactive Filing to be effective 12/31/9998.

Filed Date: 6/5/12.

Accession Number: 20120605-5117.

Comments Due: 5 p.m. ET 6/26/12.

Docket Numbers: ER12-1961-000.

Applicants: Duke Energy Zimmer, LLC.

Description: MBR Filing to be effective 10/1/2012.

Filed Date: 6/5/12.

Accession Number: 20120605-5125.

Comments Due: 5 p.m. ET 6/26/12.

Docket Numbers: ER12-1962-000.

Applicants: Duke Energy Zimmer, LLC.

Description: Reactive Filing to be effective 12/31/9998.

Filed Date: 6/5/12.

Accession Number: 20120605-5128.

Comments Due: 5 p.m. ET 6/26/12.

Docket Numbers: ER12-1963-000.

Applicants: Consolidated Edison Company of New York, Inc.

Description: Consolidated Edison Company of New York, Inc notifies the Commission that it is cancelling FERC Rate Schedule No. 78 (RS 78) and FERC Rate Schedule No. 102 (RS 102).

Filed Date: 6/5/12.

Accession Number: 20120605-5151.

Comments Due: 5 p.m. ET 6/26/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 06, 2012.
Nathaniel J. Davis, Sr.,
Deputy Secretary.

[FR Doc. 2012-14363 Filed 6-12-12; 8:45 am]

BILLING CODE 6717-01-P